NUCLEAR REGULATORY COMMISSION

[Docket Nos. 50-334 AND 50-412 and License Nos. DPR-66 and NPF-73]

FirstEnergy Nuclear Operating Company (FENOC) Receipt of Request for Action Under 10 CFR 2.2206

Notice is hereby given that by petition dated April 12, 2005, Mr. David Lochbaum of the Union of Concerned Scientists requested that the Nuclear Regulatory Commission (NRC) take action with regard to Beaver Valley Power Station, Unit Nos. 1 and 2. The petitioner requests that the NRC take enforcement action against FENOC and impose a civil penalty of at least $55,000.

As the basis for this request, the petitioner states that the licensee's February 9, 2005, license renewal submittal was not complete and accurate in all material respects and that this is a violation of 10 CFR 50.9, paragraph (a) which requires in part, that information provided to the Commission by a licensee shall be complete and accurate in all material respects.

The petition is being treated pursuant to 10 CFR 2.206 of the Commission's regulations. The petition has been referred to the Director of the Office of Nuclear Reactor Regulation. As provided by Section 2.206, appropriate action will be taken on this petition within a reasonable time. Mr. Lochbaum declined to meet with or participate in a telephone conference with the Petition Review Board on this matter stating that all pertinent facts were contained within his petition. Copies of the petition are available for inspection at the Commission's Public Document Room, located at One White Flint North, Public File Area O-1F21, 11555 Rockville Pike (first floor), Rockville, Maryland. Publicly available records will be accessible from the Agencywide Documents Access and Management System (ADAMS) Public Electronic Reading Room on the Internet at the NRC Web site, http://www.nrc.gov/reading-rm/adams.html (Accession No. ML051100297). Persons who do not have access to ADAMS, should contact the NRC PDR Reference staff by telephone at 1-800-397-4209 or 301-415-4737, or by e-mail to pdr@nrc.gov.

For the Nuclear Regulatory Commission.
Dated at Rockville, Maryland this 20th day of May 2005.
J. E. Dyer,
Director, Office of Nuclear Reactor Regulation.

[FR Doc. E5-2687 Filed 5-26-05; 8:45 am]

BILLING CODE 7590-01-P